AGENCY FOR INTERNATIONAL DEVELOPMENT

22 CFR Part 228

RIN 0412-AA48

Rules on Source, Origin and Nationality for Commodities and Services Financed by USAID: Special Source Rules Requiring Procurement From the United States

AGENCY: United States Agency for International Development (USAID).

ACTION: Final rule.

SUMMARY: USAID is amending its regulation on source, origin and nationality for commodities and services financed by USAID by removing Cambodia, Vietnam, Afghanistan, and the People's Republic of China (China) from the list of “foreign policy restricted” countries and adding China to the list of ineligible countries for geographic code 941.

The removal of these countries was necessary for the following reasons. Cambodia and Vietnam were removed because the characterization of these countries is no longer justified in light of the normalization of relations that has taken place between these countries and the United States. Afghanistan was removed because of the departure of troops of the former Soviet Union in 1989 and the subsequent removal of the communist government, and secondly because of the recent downfall of the Taliban regime and the installation of an interim government supportive of democratic principles. China was removed because of the normalization of relations that has taken place between China and the United States and the significant changes in China and the global community.

DATES: Effective May 6, 2003.

FOR FURTHER INFORMATION CONTACT: Frances Maki, Office of Procurement, Policy Division (M/OP/P) USAID, Washington, DC 20523-7801. Telephone: (202) 712-4978, facsimile (202) 216-3395, e-mail address: fmaki@usaid.gov.

SUPPLEMENTARY INFORMATION: This change is being published as a final rule since the regulation is being amended to reflect changes the Agency has already made to its internal policy documents. However, we welcome any comments from the public. This rule will not have an impact on a substantial number of small entities within the meaning of the Regulatory Flexibility Act, 5 U.S.C. 601, et seq. and is not a major rule under 5 U.S.C. 804. This regulatory action was not subject to Office of Management and Budget review under Executive Order 12866, dated September 30, 1993.

List of Subjects in 22 CFR Part 228

Administrative practice and procedures, Commodity procurement, Grant programs—foreign relations.

Accordingly 22 CFR part 228 is amended as follows:

PART 228—[AMENDED]

1. The authority citation continues to read as follows:

Authority: Sec. 621, Pub. L. 87-195, 75 Stat. 445 (22 U.S.C. 2381), as amended; E.O. 12163, Sept. 29, 1979; 44 FR 56673; 3 CFR 1979 Comp. p. 435.

Subpart A—Definitions and Scope of This Part

2. In section 228.03 revise paragraphs (b) and (d) to read as follows:

§ 228.03 Identification of principal geographic code numbers.

* * * * *

(b) Code 899—Any area or country, except the cooperating country itself and the following foreign policy restricted countries: Cuba, Iraq, Iran, Laos, Libya, North Korea, and Syria.

* * * * *

(d) Code 941—The United States and any independent country (except foreign policy restricted countries) except the cooperating country itself and the following: Albania, Andorra, Angola, Armenia, Austria, Australia, Azerbaijan, Bahamas, Bahrain, Belgium, Bosnia and Herzegovina, Bulgaria, Belarus, Canada, Croatia, Cyprus, Czech Republic, Denmark, Estonia, Finland, France, Gabon, Georgia, Germany, Greece, Hong Kong, Hungary, Iceland, Ireland, Italy, Japan, Kazakhstan, Kuwait, Kyrgyzstan, Latvia, Liechtenstein, Lithuania, Luxembourg, Macedonia*, Malta, Moldova, Monaco, Mongolia, Montenegro*, Netherlands, New Zealand, Norway, People's Republic of China, Poland, Portugal, Qatar, Romania, Russia, San Marino, Saudi Arabia, Serbia*, Singapore, Slovak Republic, Slovenia, South Africa, Spain, Sweden, Switzerland, Taiwan*, Tajikistan, Turkmenistan, Ukraine, United Arab Emirates, United Kingdom, Uzbekistan, and Vatican City.

*Has the status of a “Geopolitical Entity”, rather than as independent country.

Dated: April 11, 2003.
Timothy T. Beans,
Chief Acquisition Officer.

[FR Doc. 03-11152 Filed 5-5-03; 8:45 am]

BILLING CODE 6116-01-P